DEPARTMENT OF LABOR

Employment and Training Administration

[TA-W-50,929]

S.D. Warren Co., d/b/a Sappi Fine Paper North America, Somerset Operations, Skowhegan, ME; Notice of Termination of Investigation

Pursuant to section 221 of the Trade Act of 1974, as amended, an investigation was initiated on February 19, 2003 in response to a petition filed by a company official on behalf of workers at S.D. Warren Company, d/b/a Sappi Fine Paper North America, Somerset Operations, Skowhegan, Maine. Workers at the subject firm produce lightweight coated paper.

The petitioner has requested that the petition be withdrawn. Consequently, further investigation would serve no purpose, and the investigation has been terminated.

Signed in Washington, DC, this 13th day of March, 2003.
Linda G. Poole,
Certifying Officer, Division of Trade Adjustment Assistance.

[FR Doc. 03-7915 Filed 4-1-03; 8:45 am]

BILLING CODE 4510-30-P